DEPARTMENT OF TRANSPORTATION

Surface Transportation Board

Release of Waybill Data

The Surface Transportation Board has received a request from McCarthy, Sweeney & Harkaway, P.C. on behalf of the State of Montana (WB10-069(1)), for permission to use certain data from the Board's 2006 through 2009 (when available) Carload Waybill Sample. This request was made pursuant to 49 CFR 1244.9(b)(4) because it is related to a proceeding before the Board, State of Montana v. BNSF Railway Company, NOR 42124. Because some of the waybill information requested is from entities not party to this proceeding (i.e., Union Pacific Railroad Company and Canadian Pacific Railway Company), the Board is providing notice and an opportunity to comment on the request. (The Board's regulations do not specifically require Federal Register notice for this category of request.) A copy of the request may be obtained from the Office of Economics. See the contact listed below.

The Board will follow its procedures set forth in 49 CFR 1244.9(d) for handling this waybill sample request. The waybill sample contains confidential railroad and shipper data; therefore, if any party objects to this request, it should file the objections with the Director of the Board's Office of Economics within 14 calendar days of the publication of this notice. The rules for release of waybill data are codified at 49 CFR 1244.9.

Contact: Scott Decker, (202) 245-0330.

Jeffrey Herzig,
Clearance Clerk.

[FR Doc. 2010-30074 Filed 11-29-10; 8:45 am]

BILLING CODE 4915-01-P